DEPARTMENT OF THE TREASURY

Office of Thrift Supervision

[Docket ID OTS-2010-0021]

Closed Meeting of the OTS Mutual Savings Association Advisory Committee

AGENCY: Department of the Treasury, Office of Thrift Supervision.

ACTION: Notice of Closed Meeting.

SUMMARY: The OTS Mutual Savings Associations Advisory Committee (MSAAC) will convene a meeting on Wednesday, July 21, 2010, beginning at 1 p.m. Eastern Time. The meeting will be closed to the public.

DATES: The closed meeting will be held on Wednesday, July 21, 2010, at 1 p.m. Eastern Time.

ADDRESSES: The meeting will be held at the Office of Thrift Supervision, 1700 G Street, NW., Washington, DC 20552. The public is invited to submit written statements to the MSAAC by any one of the following methods:

• E-mail address: mutualcommittee@ots.treas.gov; or

• Mail: To Charlotte Bahin, Designated Federal Official, Office of Thrift Supervision, 1700 G Street, NW., Washington, DC 20552 in triplicate.

The agency must receive statements no later than July 16, 2010.

FOR FURTHER INFORMATION CONTACT: Charlotte M. Bahin, Designated Federal Official, (202) 906-6452, Office of Thrift Supervision, 1700 G Street, NW., Washington, DC 20552.

SUPPLEMENTARY INFORMATION: By this notice, the Office of Thrift Supervision is announcing that the OTS Mutual Savings Association Advisory Committee will convene a closed meeting on Wednesday, July 21, 2010, beginning at 1 p.m. Eastern Time. The meeting will not be open to the public. The purpose of the meeting is to advise OTS on what regulatory changes or other steps OTS may be able to take to ensure the continued health and viability of mutual savings associations, and other issues of concern to the existing mutual savings associations.

Dated: June 24, 2010.
By the Office of Thrift Supervision.
Deborah Dakin,
Acting Chief Counsel.

[FR Doc. 2010-15991 Filed 6-30-10; 8:45 am]

BILLING CODE P